DEPARTMENT OF TRANSPORTATION

Federal Aviation Administration

Notice of Intent To Rule on Application 02-05-C-00-CAK To Impose and Use the Revenue From a Passenger Facility Charge (PFC) at Akron-Canton Regional Airport, North Canton, Ohio

AGENCY: Federal Aviation Administration (FAA), DOT.

ACTION: Notice of intent to rule on application.

SUMMARY: The FAA proposes to rule and invites public comment on the application to impose and use the revenue from a PFC at Akron-Canton Regional Airport under the provisions of the 49 U.S.C. 40117 and Part 158 of the Federal Aviation Regulations (14 CFR Part 158).

DATES: Comments must be received on or before March 4, 2002.

ADDRESSES: Comments on this application may be mailed or delivered in triplicate to the FAA at the following address:

Federal Aviation Administration, Detroit Airports District Office, Willow Run Airport, East, 8820 Beck Road, Belleville, Michigan 48111. The application may be reviewed in person at this location.

In addition, one copy of any comments submitted to the FAA must be mailed or delivered to Mr. Richard B. McQueen, Akron-Canton Regional Airport at the following address: Akron-Canton Regional Airport, 5400 Lauby Road, #9, North Canton, Ohio 44720.

Air carriers and foreign air carriers may submit copies of written comments previously provided to the Akron-Canton Regional Airport Authority under section 158.23 of Part 158.

FOR FURTHER INFORMATION CONTACT: Ms. Arlene B. Draper, Program Manager, Federal Aviation Administration, Detroit Airports District Office, Willow Run Airport, East, 8820 Beck Road, Belleville, Michigan 48111 (734-487-7282). The application may be reviewed in person at this same location.

SUPPLEMENTARY INFORMATION: The FAA proposes to rule and invites public comment on the application to impose and use the revenue from a PFC at Akron-Canton Regional Airport under the provisions of the 49 U.S.C. 40117 and Parts 158 of the Federal Aviation Regulations (14 CFR Part 158).

On December 21, 2001, the FAA determined that the application to impose and use the revenue from a PFC submitted by Akron-Canton Regional Airport Authority was substantially complete within the requirements of section 158.25 of Part 158. The FAA will approve or disapprove the application, in whole or in part, not later than April 9, 2002.

The following is a brief overview of the application.

Proposed charge effective date: September 1, 2002.

Proposed charge expiration date: November 1, 2007.

Level of the proposed PFC: $4.50.

Total estimated PFC revenue: $8,277,000.

Brief description of proposed projects: Impose and Use: Property Acquisition—Nickison, Lockhart, Tucker, Peters, Snow Removal Equipment, Passenger Loading Bridge, Engine Generator-Back-up Power, Runway 5/23 Overlay, Entrance Road Rehabilitation, Terminal Baggage Claim Expansion, Terminal Expansion/Rehabilitation, Shift/Extension Runway 1/19 Phase II, Airport Access Improvement—Shuffel Road Interchange.

Use Only: Relocate Mount Pleasant and Frank Roads, Runway 1 Extension, Runway 19 Runway Safety Area Improvements. Class or classes of air carriers which the public agency has requested to be required to collect PFCs: air taxi/commercial operators.

Any person may inspect the application in person at the FAA office listed above under FOR FURTHER INFORMATION CONTACT.

In addition, any person may, upon request, inspect the application, notice and other documents germane to the application in person at the Akron-Canton Regional Airport, 5400 Lauby Road, #9, North Canton, Ohio 44720.

Issued in Des Plaines, Illinois, on January 18, 2002.
Mark A. McClardy,
Acting Manager, Planning/Programming Branch, Airports Division, Great Lakes Region.

[FR Doc. 02-2280 Filed 1-30-02; 8:45 am]

BILLING CODE 4910-13-M